DEPARTMENT OF TRANSPORTATION

Surface Transportation Board

[STB Docket No. MC-F-20981]

Laidlaw Inc.—Continuance in Control—Victoria Tours Limited

AGENCY: Surface Transportation Board, Transportation.

ACTION: Notice Tentatively Approving Finance Transaction.

SUMMARY: Laidlaw Inc. (Laidlaw), a noncarrier, filed an application under 49 U.S.C. 14303 for Laidlaw to continue in indirect control of Victoria Tours Limited (Victoria), upon Victoria's becoming a regulated motor passenger carrier. Persons wishing to oppose the application must follow the rules at 49 CFR 1182.5 and 1182.8. The Board has tentatively approved the transaction, and, if no opposing comments are timely filed, this notice will be the final Board action.

DATES: Comments must be filed by June 25, 2001. Applicant may file a reply by July 9, 2001. If no comments are filed by June 25, 2001, this notice is effective on that date.

ADDRESSES: Send an original and 10 copies of any comments referring to STB Docket No. MC-F-20981 to: Surface Transportation Board, Office of the Secretary, Case Control Unit, 1925 K Street, NW., Washington, DC 20423-0001. In addition, send one copy of comments to applicant's representative: Fritz R. Kahn, 1920 N Street, NW. (8th floor), Washington, DC 20036-1601.

FOR FURTHER INFORMATION CONTACT: Beryl Gordon, (202) 565-1600. (TDD for the hearing impaired: 1-800-877-8339.)

SUPPLEMENTARY INFORMATION: Laidlaw controls, either directly or indirectly, a family of motor passenger carriers, including Greyhound Lines, Inc. (Greyhound) (MC-1515). With the exception of Greyhound, which conducts mainly nationwide, scheduled, regular-route operations, the controlled carriers are engaged primarily in charter and special operations.

Laidlaw indirectly controls Victoria through Laidlaw Transit Ltd. (Laidlaw Ltd.), which is authorized to transport passengers, in charter and special operations, pursuant to authority in MC-102189. Victoria conducts charter and special passenger carrier operations within Canada, and it has filed an application with the U.S. Department of Transportation, Federal Motor Carrier Safety Administration, for authority to conduct similar operations within the United States. Laidlaw seeks authority from the Board to continue in indirect control of Victoria, through Laidlaw Ltd., upon Victoria's becoming a regulated U.S. carrier.

Laidlaw asserts that Victoria will be able to offer its passengers tour and sightseeing services over an expanded area. The affiliation of Victoria with the Laidlaw family of regulated carriers will ensure that Victoria will have an adequate number of buses to meet the travel needs of its passengers. Conversely, whenever its buses are underutilized, Victoria will be able to make them available to its Laidlaw affiliates. Laidlaw maintains that such arrangements will improve the performance of Victoria, which will inure to the benefit of the public.

Under 49 U.S.C. 14303(b), we must approve and authorize a transaction we find consistent with the public interest, taking into consideration at least: (1) The effect of the transaction on the adequacy of transportation to the public; (2) the total fixed charges that result; and (3) the interest of affected carrier employees.

Applicant has submitted the information required by 49 CFR 1182.2, including information to demonstrate that the proposed transaction is consistent with the public interest under 49 U.S.C. 14303(b). Specifically, applicant has stated that the proposed transaction will have a positive effect on the adequacy of transportation to the public and will result in no increase in fixed charges and no changes in employment. See 49 CFR 1182.2(a)(7). Additional information, including a copy of the application, may be obtained from applicant's representative.

On the basis of the application, we find that the proposed transaction is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at www.stb.dot.gov.

This decision will not significantly affect either the quality of the human environment or the conservation of energy resources.

It is ordered:

1. The proposed continuance in control is approved and authorized, subject to the filing of opposing comments.

2. If timely opposing comments are filed, the findings made in this decision will be deemed vacated.

3. This decision will be effective on June 25, 2001, unless timely opposing comments are filed.

4. A copy of this notice will be served on: (1) The U.S. Department of Transportation, Federal Motor Carrier Safety Administration—MC-RI, 400 Virginia Avenue, SW., Suite 600, Washington, DC 20024; (2) the U.S. Department of Justice, Antitrust Division, 10th Street & Pennsylvania Avenue, NW., Washington, DC 20530; and (3) the U.S. Department of Transportation, Office of the General Counsel, 400 7th Street, SW., Washington, DC 20590.

Decided: May 2, 2001.
By the Board, Chairman Morgan, Vice Chairman Clyburn, and Commissioner Burkes.
Vernon A. Williams,
Secretary.

[FR Doc. 01-11526 Filed 5-8-01; 8:45 am]

BILLING CODE 4915-00-M